DEPARTMENT OF ENERGY

Nuclear Energy Research Advisory Committee; Notice of Open Meeting

AGENCY: Department of Energy, Office of Nuclear Energy.

ACTION: Notice of open meeting.

SUMMARY: The Office of Nuclear Energy announces that the Nuclear Energy Research Advisory Committee will hold an open meeting and the public is invited. The Federal Advisory Committee Act (Pub. L. 92-463, as amended) requires that public notice of these meetings be announced in the Federal Register.

DATES: Tuesday, February 20, 2007; 3 p.m. until 6 p.m.

Wednesday, February 21, 2007; 8:30 a.m. until 2 p.m.

ADDRESSES: The meeting will be held at the Bennion Student Union, 1784 Science Center Drive, Room 109, Idaho Falls, ID 83402.

FOR FURTHER INFORMATION CONTACT: Dr. John Boger, Designated Federal Officer, U.S. Department of Energy, 19901 Germantown Rd, Germantown, MD 20874; telephone (301) 903-4495; e-mail john.boger@hq.doe.gov.

SUPPLEMENTARY INFORMATION: Background: The Nuclear Energy Research Advisory Committee (NERAC) was established in 1998 by the U.S. Department of Energy (DOE) to provide independent, expert advice on complex scientific, technical, and policy issues that arise in the planning, managing, and implementation of DOE's civilian nuclear energy research programs. The committee is composed of 14 individuals of diverse backgrounds selected for their technical expertise and experience, established records of distinguished professional service, and their knowledge of issues that pertain to nuclear energy.

Purpose of the Meeting: To inform the committee of recent developments and current status of research programs and projects pursued by the Department of Energy's Office of Nuclear Energy and receive advice and comments in return from the committee.

Tentative Agenda: The agenda during the two-day meeting is expected to include presentations that cover such topics as the current status of the Global Nuclear Energy Partnership (GNEP), Next Generation of Nuclear Power, Nuclear Power 2010, and Idaho National Laboratory. The agenda may change to accommodate committee business. For updates, one is directed to the NERAC Web site: http://nuclear.gov/nerac/neNeracOverview.html.

Public Participation: Individuals and representatives of organizations who would like to offer comments and suggestions may do so on the second day of the meeting, Wednesday, February 21, 2007. Approximately one-half hour will be reserved for public comments. Time allotted per speaker will depend on the number who wish to speak but is not expected to exceed 5 minutes. The public is invited up to the capacity of the meeting room. Anyone who is not able to make the meeting or has had insufficient time to address the committee is invited to send a written statement to Dr. John Boger, 19901 Germantown Rd, Germantown, MD 20874, or e-mail john.boger@hq.doe.gov.

Minutes: The minutes will be available on the NERAC Web site: http://nuclear.gov/nerac/neNeracOverview.html.

Issued in Washington, DC on January 30, 2007.
Rachel Samuel,
Deputy Advisory Committee Management Officer.

[FR Doc. E7-1772 Filed 2-2-07; 8:45 am]

BILLING CODE 6450-01-P